COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 5/20/2013.

ADDRESSES: Committee for Purchase From People Who Are Blind or Severely Disabled, 1401 S. Clark Street, Suite 10800, Arlington, Virginia 22202-4149.

FOR FURTHER INFORMATION CONTACT: Patricia Briscoe, Telephone: (703) 603-7740, Fax: (703) 603-0655, or email CMTEFedReg@AbilityOne.gov.

SUPPLEMENTARY INFORMATION:

Additions

On 2/15/2013 (78 FR 11159) and 2/22/2013 (78 FR 12296-12297), the Committee for Purchase From People Who Are Blind or Severely Disabled published notice of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with products and services proposed for addition to the Procurement List.

End of Certification

Accordingly, the following products and services are added to the Procurement List:

Products

NSN: 7045-00-NIB-0393—Privacy Filter, LCD Monitor, 16:9 Aspect Ratio, 24 Widescreen

NPA: Wiscraft, Inc., Milwaukee, WI

Contracting Activity: Federal Acquisition Service, GSA/FSS OFC SUP CTR—Paper Products, New York, NY

Coverage: A-List for the Total Government Requirement as aggregated by the General Services Administration.

NSN: 7530-00-NIB-0988—Cover, Record Book, Digital Camo, 6″ x 9″

NPA: New York City Industries for the Blind, Inc., Brooklyn, NY

Contracting Activity: Federal Acquisition Service, GSA/FSS OFC SUP CTR—Paper Products, New York, NY

Coverage: A-List for the Total Government Requirement as aggregated by the General Services Administration.

Services

Service Type/Locations: Custodial Service Danville Courthouse, 700 Main Street, Danville, VA, Norfolk Federal Building, 200 Granby St., Norfolk, VA

NPA: Portco, Inc., Portsmouth, VA

Contracting Activity: Public Building Service, GSA/PBS/R03 South Service Center, Philadelphia, PA

Service Type/Locations: Janitorial Service, National Center for Cool and Cold Water Aquaculture, 11861 Leetown Road, Kearneysville, WV Appalachian Fruit Research Station, 2217 Wiltshire Road, Kearneysville, WV

NPA: NW Works, Inc., Winchester, VA

Contracting Activity: Agricultural Research Service, USDA ARS NAA 349B, Kearneysville, WV

Service Type/Location: Warehouse Operation, National Labor Relations Board HQ, 1099 14th Street NW., Washington, DC

NPA: Linden Resources, Inc., Arlington, VA

Contracting Activity: National Labor Relations Board, Washington DC

Service Type/Location: Coating of Polypropylene Plastic Bleeding Tubes, USDA, APHIS-National Veterinary Stockpile, (Offsite: 12600 Third St., Grandview, MO), 1541 E. Bannister Road, Kansas City, MO

NPA: JobOne, Independence, MO

Contracting Activity: Animal and Plant Health Inspection Service, Minneapolis, MN

Service Type/Location: Custodial Service, Elizabeth Kee Federal Building, 601 Federal Street, Bluefield, WV

NPA: Integrated Resources, Inc., Maben, WV

Contracting Activity: Public Building Service, GSA/PBS/R03 Charleston, Roanoke, Huntington, Elkins & Parkersburg FO, Charleston, WV

Patricia Briscoe,
Deputy Director, Business Operations (Pricing and Information Management.

[FR Doc. 2013-09216 Filed 4-18-13; 8:45 am]

BILLING CODE 6353-01-P